DEPARTMENT OF AGRICULTURE

Natural Resources Conservation Service

South Chickamauga Creek Watershed: Catoosa, Walker, Whitfield Counties, Georgia; Bradley and Hamilton Counties, Tennessee

AGENCY: Natural Resources Conservation Service, U.S.D.A.

ACTION: Notice of a Finding Of No Significant Impact.

SUMMARY: Pursuant to Section 102(2)(c) of the National Environmental Policy Act of 1969; the Council on Environmental Quality Regulations (40 CFR Part 1500); and the Natural Resources Conservation Service Regulations (7 CFR Part 650); the Natural Resources Conservation Service, U.S. Department of Agriculture, gives notice that an environmental impact statement is not being prepared for the South Chickamauga Creek Watershed, Catoosa, Walker, Whitfied Counties, Georgia and Bradley and Hamilton Counties, Tennessee.

FOR FURTHER INFORMATION CONTACT: Earl Cosby, State Conservationist, Natural Resources Conservation Service, Federal Building, STOP 200, 355 E. Hancock Avenue, Athens, Georgia 30601, telephone (706) 546-2272.

SUPPLEMENTAL INFORMATION: The environmental assessment of this federally assisted action indicates that the project will not cause significant local, regional, or national impacts on the environment. As a result of these findings, Earl Cosby, State Conservationist, has determined that the preparation and review of an environmental impact statement is not needed for this project.

The project purposes are watershed protection and improvement of water quality. The planned works of improvement include animal waste management systems and accelearated pasture and cropland treatment.

The Notice of a Finding Of No Significant Impact (FONSI) has been forwarded to the Environmental Protection Agency and to various Federal, State, and local agencies and interested parties. A limited number of copies of the FONSI are available to fill single copy requests at the above address. Basic data developed during the environmental assessment are on file and may be reviewed by contacting Cran Upshaw at the above number.

No administrative action on implementation of the proposal will be taken until 30 days after the date of this publication in the Federal Register.

(This activity is listed in the Catalog of Federal Domestic Assistance under No. 10.904, Watershed Protection and Flood Prevention, and is subject to the provisions of Executive Order 12372, which requires intergovernment consultation with State and local officials.)

Earl Cosby,
State Conservationist.

Finding of No Significant Impact for South Chickamauga Creek Watershed, Catoosa, Walker, Whitfield Counties, GA; Bradley and Hamilton Counties, TN

July 2000.

Introduction

The South Chickamauga Creek Watershed is a federally assisted action authorized for planning under Public Law 83-566, the Watershed Protection and Flood Prevention Act. An environmental assessment was undertaken in conjunction with the development of the watershed plan. This assessment was conducted in consultation with local, State, and Federal agencies as well as with interested organizations and individuals. Data developed during the assessment are available for public review at the following location: U.S. Department of Agriculture, Natural Resources Conservation Service, 355 East Hancock Avenue, Athens, Georgia 30601.

Recommended Action

This document describes a plan for Watershed Protection and improvement of water quality and includes measures for the control of agricultural animal waste related pollution and reduction of sediment from pasture and cropland. The plan reduces excessive animal waste and associated nutrients and bacteria entering waterways from about 10 dairy, 43 poultry and 159 beef operations. The plan also provides measures to reduce nutrient runoff and erosion on 304 acres of cropland, Sedimentation from streambanks and animal walkways will be substantially reduces and forage quality will be improves on 4,560 acres of pastureland. These measures will be accomplished by providing financial and technical assistance through a local sponsor.

The principal project measures are to:

1. Develop and install approximately 212 animal waste management systems and provide enhanced cover to 4,560 acres of pastureland and adjoining stream banks to reduce sedimentation, improve water quality and enhance forage production. These practices will include all or parts of the following: fencing, cross fencing with gates, alternative livestock water supply with piping and troughs, stream crossings, riparian buffers, animal waste, lagoons, flush down and hose down systems, solid waste separators, heavy use protection areas, solid waste stack facilities and dead bird composters on 10 dairy, 43 poultry and 159 beef operations. Conservation management with nutrient and grazing land management practices will be used when applying animal waste.

2. The measures will be planned and installed by developing long-term contracts with landowners.

Effects of Recommended Action

Installation of animal waste management measures and grazing land practices will reduce offsite nutrient, bacteria, sediment and chemical damages and increase utilization of nutrients onsite. The results will be a significant reduction in current impairments to the area's water quality, biological habitats, recreational opportunities, land values and improvement of long-term productivity and quality of pastureland in the watershed. Installation of the selected plan will also provide local and regional employment, promote rural economic development in the drainage area, and provide long term natural resource protection in the watershed.

The project measures will reduce agricultural related nutrients, bacteria and sediment entering watershed streams, the South Chickamauga Creek and Nickajack Lake in Tennessee. The project will also minimize the impact on surface and ground water quality by:

—Reducing the 76 tons of nitrogen and 21 tons of phosphorus from animal waste operations delivered annually by an average of 47%.

—Providing a significant reduction in the amount of nitrates, ammonia, and bacteria delivered annually to area waterways, thus improving biological habitats, recreational opportunities, and real estate values.

—Reducing the 45,835 tons of sediment from streambanks and overgrazed pastureland.

Grazing land practices will increase forage productivity through improved management and utilizing waste more efficiently. This will reduce stream enrichment and conserve the nutrients for plant production. The proposed plan will also encourage and promote the agricultural enterprises in the watershed through improved efficiency.

Wildlife habitat will not be disturbed during installation of animal waste systems and grazing land practices. No wetlands, wildlife habitat, fisheries, prime farmland, or cultural resources will be destroyed or threatened by this project. Some 1,251 acres of wetland and wetland type wildlife habitat will be improved. Conversions to permanent vegetation will provide a more diverse upland game habitat. The value of woodland habitat will not decline. Fishery habitats will also be maintained.

No endangered or threatened plant or animal species will be adversely affected by the project.

There are no wilderness areas in the watershed.

Scenic values will be complemented with improved riparian quality and cover conditions resulting from the installation of conservation animal waste management system and grazing land practices.

Alternatives

Three alternative plans, that included 25 combinations of systems and practices, was considered in project planning. No significant adverse environmental impacts are anticipated from installation of the selected alternative. Also, the planned action is the most practical, complete and acceptable means of protecting the watershed by managing animal waste and stabilizing pasture and cropland.

Consultation—Public Participation

Water quality concerns in the South Chickamauga Creek Watershed were expressed by local citizens, Soil and Water Conservation Districts, other regional residents. NRCS personnel in partnership with interagency team members from the Tennessee Valley Authority (TVA), Georgia Department of Natural Resources (DNR) and Environmental Protection Division (EPD) made a watershed assessment and evaluated existing water quality data. The team determined that agricultural related water quality problems were negatively affecting the watershed and the region's air, plant, animal, soil, and water resources. With these concerns identified, the team agreed that a holistic approach for assistance to operators based on the watershed approach would help solve the problems. The Sponsors requested NRCS planning assistance under PL-566 authority for a watershed protection plan.

At the initiation of the planning process, meetings were held with key farmers and District representatives from the watershed area to discuss problem identification, conservation systems and PL-566 requirements. A public meeting was held on June 29, 1999 to scope the problems and concerns and to explain impacts of the PL-566 program initiatives relative to a watershed project and discuss possible solutions. Notice of the meeting appeared in the local newspaper and on radio for several weeks prior to the date. Door to door verbal invitations were also made. One hundred eighty landowners, operators and interested citizens attended the meeting.

NRCS developed an interdisciplinary, interagency planning team to work with the Sponsor, landowners, and other interested groups. The team was compiled of specialists from NRCS, TVA, Ga. Cooperative Extension Service, EPD, along with local sponsors. The team worked in the watershed area and downstream to Nickajack Lake, to gain insight to the magnitude of the problems and possible solutions. Several meetings, group discussions, and interviews were held with local planners, individuals, government officials and other technical experts. Evaluations and alternative solutions were developed with the Sponsor and other officials. The Recommended Plan was agreed upon.

Another public meeting was held in Rocksprings, Georgia on March 21, 2000. Local operators, landowners and citizens attended the meeting. The results of surveys, studies, field investigations and the Recommended Plan were presented. The Recommended Plan was agreed upon by those in attendance.

In April 2000, representatives of the NRCS, TVA, DNR, and other officials evaluated data to determine the quality and quantity of resources that would be impacted by selected practices and to consider possible mitigation measures. It was the consensus of the group that an Environmental Impact Statement (EIS) was not needed for this project. This agreement was based on the type of practices and systems planned and that each would be installed on previously disturbed land. With this consensus, an Environmental Assessment (EA) was prepared accordingly.

Upon review of the EA, this Finding of No Significant Impact (FONSI) was prepared. These documents are being distributed to all concerned agencies, groups, and interested individuals. A Notice of Availability of the FONSI is being published in the Federal Register.

Agency consolidations and public participation to date has shown no conflicts with the implementation of the selected plan.

Conclusion

The Environmental Assessment summarized above indicates that this Federal action will not cause significant adverse local, regional, or national impacts on the environment. Therefore, based on the above findings, I have determined that an environmental impact statement for the recommended South Chickamauga Creek Watershed Plan is not required.

Dated: July 10, 2000.
Earl Cosby,
State Conservationist.

[FR Doc. 00-17947 Filed 7-17-00; 8:45 am]

BILLING CODE 3410-16-M